DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/ERUOCAE Working Group 53: Air Traffic Services (ATS) Safety and Interoperability Requirements.

DATES: The meeting will be held December 3-7, 2001 starting at 9 a.m.

ADDRESSES: The meeting will be held at RTCA, Inc., 1828 L Street, NW., Suite 805, Washington, DC 20036.

FOR FURTHER INFORMATION CONTACT: (1) RTCA Secretariat, 1828 L Street, NW., Suite 805, Washington, DC 20036; telephone (202) 833-9339; fax (202) 833-9434; web site http://www.rtca.org.

SUPPLEMENTARY INFORMATION: Pursuant to section 10(a)(2) of the Federal Advisory Committee Act (Pub. L. 92-463, 5 U.S.C., Appendix 2), notice is hereby given for a Special Committee 189/EUROCAE Working Group 53 meeting. The agenda will include:

• December 3:

• Opening Plenary Session (Welcome and Introductory Remarks, Review/Approval of Meeting Agenda, Review/Approval of Meeting Minutes)

• Sub-group and related reports; Position papers planned for plenary agreement; SC-189/WG-53 co-chair progress report

• December 4-6:

• PUB, Publications Integration Sub-group and Chair meetings

• INTEROP, Interoperability Sub-group

• ICSPR, Initial Continental Safety and Performance Requirements Sub-group

• IOSPR, Initial Oceanic Safety and Performance requirements Sub-group

• December 7:

• Closing Plenary Session (Welcome and Introductory Remarks, Review/Approval of Meeting Agenda)

• Sub-group and related reports; Position papers planned for plenary agreement; SC-189/WG-53 co-chair progress report and wrap-up

Attendance is open to the interested public but limited space availability. With the approval of the chairmen, members of the public may present oral statements at the meeting. Persons wishing to present statements or obtain information should contact the person listed in the FOR FURTHER INFORMATION CONTACT section. Members of the public may present a written statement to the committee at any time.

Issued in Washington, DC, on November 1, 2001.
Jane P. Caldwell,
Program Director, System Engineering Resource Management.

[FR Doc. 01-28250 Filed 11-8-01; 8:45 am]

BILLING CODE 4910-13-M